DEPARTMENT OF HEALTH AND HUMAN SERVICES

Centers for Disease Control and Prevention

[60Day-17-0706; Docket No. CDC-2016-0128]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies to take this opportunity to comment on proposed and/or continuing information collections, as required by the Paperwork Reduction Act of 1995. This notice invites comment on National Program of Cancer Registries Program Evaluation Instrument.

DATES: Written comments must be received on or before March 6, 2017.

ADDRESSES: You may submit comments, identified by Docket No. CDC-2016-0128 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

National Program of Cancer Registries Program Evaluation Instrument (NPCR- PEI), (OMB Control Number 0920-0706, expired 05/31/2016)—Reinstatement with Change—National Center for Chronic Disease Prevention and Health Promotion (NCCDPHP), Centers for Disease Control and Prevention (CDC).

Background and Brief Description

CDC is responsible for administering and monitoring the National Program of Cancer Registries (NPCR). The NPCR provides technical assistance and funding and sets program standards to assure that complete local, state, regional, and national cancer incidence data are available for national and state cancer control and prevention activities and health planning activities.

The Program Evaluation Instrument has been used for 24 years to monitor the performance of NPCR grantees in meeting the required Program Standards. In 2009, the frequency of the data collection was reduced from annual to a biennial schedule in odd-numbered years.

CDC currently supports 48 population-based central cancer registries (CCR) in 45 states, one territory, the District of Columbia, and the Pacific Islands. The National Cancer Institute supports the operations of CCRs in the five remaining states.

A new FOA (DP17-1701) will be released during the first quarter of 2017 and a new project period will begin July 1, 2017. DP17-1701 will allow State health departments or their Bona Fide Agents, and U.S. territories that have not received NPCR funding previously to apply. DP17-1701 NPCR eligibility will include the 48 awardees funded under the DP12-1205 FOA and potentially 6 additional State health departments or their Bona Fide Agents, and a combination of U.S. territories as in DP12-1205.

The NPCR is open to the possibility of funding the territories individually in the DP17-1701 FOA. While Pacific Island Jurisdiction (PIJ) is funded under one award in DP12-105, they will have the opportunity to apply as one, individually, or a combination of individual and joint applications.

States that were solely funded by Surveillance, Epidemiology, and End Result (SEER) in previous years can easily respond to the questions in the survey. The information being requested in the NPCR-PEI are either already collected by or are readily available to all CCRs. Thus, the only burden on the CCRs involves the time it takes to enter responses on the web-based NPCR-PEI every other year.

Minor changes to the Program Evaluation Instrument (NPCR-PEI) include removing questions determined to be outdated or inappropriate for this survey, rewording questions for clarity and consolidating a few questions. In addition, questions that showed 100% compliance in 2015 were deleted.

The NCPR-PEI includes questions about the following categories of registry operations: (1) Staffing, (2) legislation, (3) administration, (4) reporting completeness, (5) data exchange, (6) data content and format, (7) data quality assurance, (8) data use, (9) collaborative relationships, (10) advanced activities, and (11) survey feedback.

Examples of information that can be obtained from various questions include, but are not limited to: (1) Number of filled staff full-time positions by position responsibility, (2) revision to cancer reporting legislation, (3) various data quality control activities, (4) data collection activities as they relate to achieving NPCR program standards for data completeness, and (5) whether registry data is being used for comprehensive cancer control programs, needs assessment/program planning, clinical studies, or incidence and mortality estimates.

The NPCR-PEI is needed to receive, process, evaluate, aggregate, and disseminate NPCR program information. The information is used by CDC and the NPCR-funded registries to monitor progress toward meeting established program standards, goals, and objectives; to evaluate various attributes of the registries funded by NPCR; and to respond to data inquiries made by CDC and other agencies of the federal government.

CDC intends to seek a three-year OMB-approval to collect information in the winter of 2017 and 2019. There are no costs to respondents except their time. The estimated annualized burden hours are summarized in the table below.

Estimated Annualized Burden Hours
Type of respondents | Form name | Number of respondents | Number of responses per respondent | Average burden per response (in hrs.) | Total burden (in hrs.)
NPCR Awardees | PEI | 39.5 | 1 | 2 | 79

Leroy A. Richardson,
Chief, Information Collection Review Office, Office of Scientific Integrity, Office of the Associate Director for Science, Office of the Director, Centers for Disease Control and Prevention.

[FR Doc. 2016-31991 Filed 1-4-17; 8:45 am]

BILLING CODE 4163-18-P